DEPARTMENT OF THE INTERIOR

National Park Service

[N6489; NPS-WASO-NAGPRA-NPS0041012; PPWOCRADN0-PCU00RP14.R50000]

Notice of Inventory Completion: U.S. Department of the Interior, Bureau of Land Management, Alaska State Office, Anchorage, AK

AGENCY: National Park Service, Interior.

ACTION: Notice.

SUMMARY: In accordance with the Native American Graves Protection and Repatriation Act (NAGPRA), the U.S. Department of the Interior, Bureau of Land Management, Alaska State Office (BLM), has completed an inventory of human remains and associated funerary objects and has determined that there is a cultural affiliation between the human remains and associated funerary objects and Indian Tribes or Native Hawaiian organizations in this notice.

DATES: Repatriation of the human remains and associated funerary objects in this notice may occur on or after October 6, 2025.

ADDRESSES: Send written requests for repatriation of the human remains and associated funerary objects in this notice to Robin O. Mills, Bureau of Land Management, 222 W 7th Avenue #13, Anchorage, AK 99513, email rmills@blm.gov.

SUPPLEMENTARY INFORMATION: This notice is published as part of the National Park Service's administrative responsibilities under NAGPRA. The determinations in this notice are the sole responsibility of the BLM, and additional information on the determinations in this notice, including the results of consultation, can be found in the inventory or related records. The National Park Service is not responsible for the determinations in this notice.

Abstract of Information Available

Based on the information available, human remains representing, at least, two individuals have been reasonably identified. The 195 associated funerary objects include a lamp, potsherds, matting, a birch bark container, glass beads, bracelets, animal teeth, a boot creaser, an ulu handle, and a lump of agate. The remains of two ancestors were collected by archaeologist Frederica de Laguna in 1935 at two locations along the Anvik River. One ancestor (an adult woman) was collected from an old habitation site called Red Stone Village, located 8.6 miles due west of the modern village of Anvik, up the Anvik River. A total of 149 funerary objects were found and collected with this ancestor. The second ancestor (an adult, probably male) was collected from the Anvik Point site, overlooking the Yukon River directly across from modern Anvik, on the north side of the mouth of the Anvik River. A total of 46 funerary objects were found with this ancestor. The remains and associated funerary objects were placed in the University of Pennsylvania Museum, in Philadelphia, PA, in 1935, where they have remained ever since.

Cultural Affiliation

Based on the information available and the results of consultation, cultural affiliation is reasonably identified by the geographical location or acquisition history of the human remains and associated funerary objects described in this notice.

Determinations

The BLM Alaska State Office has determined that:

• The human remains described in this notice represent the physical remains of two individuals of Native American ancestry.

• The 195 objects described in this notice are reasonably believed to have been placed intentionally with or near the two individual human remains at the time of death or later as part of the death rite or ceremony.

• There is a reasonable connection between the human remains and associated funerary objects described in this notice and Anvik Village.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 6, 2025. If competing requests for repatriation are received, the BLM must determine the most appropriate requestor prior to repatriation. Requests for joint repatriation of the human remains and associated funerary objects are considered a single request and not competing requests. The BLM is responsible for sending a copy of this notice to the Indian Tribes and Native Hawaiian organizations identified in this notice.

Authority: Native American Graves Protection and Repatriation Act, 25 U.S.C. 3003, and the implementing regulations, 43 CFR 10.10.

Dated: August 26, 2025.
Melanie O'Brien,
Manager, National NAGPRA Program.

[FR Doc. 2025-17011 Filed 9-4-25; 8:45 am]

BILLING CODE 4312-52-P